FEDERAL COMMUNICATIONS COMMISSION

47 CFR Part 73

[DA 02-2695; MM Docket No. 02-119; RM-10435]

Radio Broadcasting Services; Clarksdale and Friars Point, MS

AGENCY: Federal Communications Commission.

ACTION: Final rule.

SUMMARY: In response to a Notice of Proposed Rule Making, 67 FR 39935 (June 11, 2002), this document upgrades Channel 268A, Station WWUN-FM, Clarksdale, Mississippi, to Channel 268C3, changes the community of license of Station WWUN-FM from Clarksdale to Friars Point, Mississippi, and provides Friars Point with its second local aural transmission service. The coordinates for Channel 268C3 at Friars Point are 34-25-30 North Latitude and 90-35-39 West Longitude, with a site restriction 7.8 kilometers (4.8 miles) northeast of Friars Point.

DATES: Effective December 2, 2002.

FOR FURTHER INFORMATION CONTACT: R. Barthen Gorman, Media Bureau, (202) 418-2180.

SUPPLEMENTARY INFORMATION: This is a synopsis of the Commission's Report and Order, MM Docket No. 02-119, adopted October 9, 2002, and released October 18, 2002. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under Mississippi, is amended by removing Channel 268A at Clarksdale and by adding Channel 268C3 at Friars Point.

Federal Communications Commission.
John A. Karousos,
Assistant Chief, Audio Division, Media Bureau.

[FR Doc. 02-28161 Filed 11-5-02; 8:45 am]

BILLING CODE 6712-01-P